DEPARTMENT OF STATE

[Public Notice 4412]

U.S. Advisory Commission on Public Diplomacy; Notice of Meeting

The Department of State announces a meeting of the U.S. Advisory Commission on Public Diplomacy on Thursday, September 25, 2003, in Room 1105, U.S. Department of State, Washington, DC from 10 a.m. to 12 p.m.

The Commission, reauthorized pursuant to Public Law 106-113 (H.R. 3194, Consolidated Appropriations Act, 2000), will have discussion about recent public diplomacy occurrences.

Members of the general public may attend the meeting, though attendance of public members will be limited to the seating available. Access to the building is controlled, and individual building passes are required for all attendees.

The U.S. Advisory Commission on Public Diplomacy is a bipartisan Presidentially appointed panel created by Congress in 1948 to provide oversight of U.S. Government activities intended to understand, inform and influence foreign publics. The Commission reports its findings and recommendations to the President, the Congress and the Secretary of State and the American people. Current Commission members include Barbara M. Barrett of Arizona, who is the Chairman; Harold C. Pachios of Maine; Ambassador Penne Percy Korth of Washington, DC; Ambassador Elizabeth F. Bagley of Washington, DC; Charles “Tre” Evers III of Florida; Jay T. Snyder of New York; and Maria Sophia Aguirre of Washington, DC.

For more information or to attend the meeting, please contact Matt Lauer at (202) 203-7880.

Dated: September 5, 2003.
Matthew Lauer,
U.S. Advisory Commission on Public Diplomacy, Department of State.

[FR Doc. 03-23282 Filed 9-11-03; 8:45 am]

BILLING CODE 4710-11-U